DEPARTMENT OF THE TREASURY

Internal Revenue Service

26 CFR Parts 1 and 53

[TD 9981]

RIN 1545-BJ23

Requirements for Type I and Type III Supporting Organizations; Correction

AGENCY: Internal Revenue Service (IRS), Treasury.

ACTION: Final regulations; correction.

SUMMARY: This document contains a correction to Treasury Decision 9981, which was published in the Federal Register for Monday, October 16, 2023. Treasury Decision 9981 issued final regulations providing guidance on the prohibition on certain gifts or contributions to Type I and Type III supporting organizations from persons who control a supported organization and on certain other requirements for Type III supporting organizations. The regulations reflect changes to the law made by the Pension Protection Act of 2006.

DATES: This correction is effective on November 20, 2023.

FOR FURTHER INFORMATION CONTACT: Michael Gruccio at (202) 317-4541 (not a toll-free number), or Don Spellman at (202) 317-4086 (not a toll-free number).

SUPPLEMENTARY INFORMATION:

Background

The final regulations (TD 9981) that are the subject of this correction are under section 509(a) of the Code.

Corrections to Publication

Accordingly, the final regulations (TD 9981) that are the subject of FR Doc. 2023-22286, published on October 16, 2023, are corrected on page 71298, in the first column, the sixth through eighth lines under the heading “Statement of Availability of IRS Documents” are corrected to read “visiting the IRS website at: https://www.irs.gov/irb/2014-02_IRB#NOT-2014-4”.

Oluwafunmilayo A. Taylor,
Section Chief, Publications & Regulations Branch, Associate Chief Counsel (Procedure and Administration).

[FR Doc. 2023-25510 Filed 11-17-23; 8:45 am]

BILLING CODE 4830-01-P